DEPARTMENT OF ENERGY

Federal Energy Regulatory Commission

[Project No. 13642-003]

GB Energy Park, LLC; Notice of Availability of Environmental Assessment

In accordance with the National Environmental Policy Act of 1969 and the Federal Energy Regulatory Commission's (Commission) regulations, 18 CFR part 380, the Office of Energy Projects has reviewed the application for an original license for the proposed 400-megawatt Gordon Butte Pumped Storage Project, which would be located approximately 3 miles west of the town of Martinsdale in Meagher County, Montana, and has prepared an Environmental Assessment (EA) for the project. The project would not occupy any federal lands.

The EA contains staff's analysis of the potential environmental impacts of construction and operation of the project and concludes that licensing the project, with appropriate environmental measures, would not constitute a major federal action that would significantly affect the quality of the human environment. Based on a review of the comments received in response to the issuance of this EA, the Commission may issue a final EA.

A copy of the EA is available for review at the Commission in the Public Reference Room or may be viewed on the Commission's Web site at http://www.ferc.gov using the “eLibrary” link. Enter the docket number excluding the last three digits in the docket number field to access documents. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

Any comments should be filed within 30 days from the date of this notice.

The Commission strongly encourages electronic filing. Please file comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Secretary, Federal Energy Regulatory Commission, 888 First Street NE., Washington, DC 20426. The first page of any filing should include docket number P-13642-003.

For further information, contact Mike Tust at (202) 502-6522.

Dated: September 27, 2016.
Kimberly D. Bose,
Secretary.

[FR Doc. 2016-23817 Filed 9-30-16; 8:45 am]

BILLING CODE 6717-01-P